DEPARTMENT OF DEFENSE

Department of the Navy

[USN-2006-0051]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on October 23, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 15, 2006.
C.R. Choate,
Alternate OSD Federal Register Liaison Officer, Department of Defense.

N01080-1

System name:

Enlisted Master File Automated System (September 9, 1996, 61 FR 47483).

Changes:

* * * * *

System name:

Change “System” to read “Systems”.

System location:

Delete entry and replace with “Defense Enterprise Computing Center (DECC), 5450 Carlisle Pike, Mechanicsburg, PA 17050-0975.”

* * * * *

Authority for maintenance of the system:

Delete “5 U.S.C. 301, Departmental Regulations” and replace with “10 U.S.C. 5013, Secretary of the Navy.”

* * * * *

System manager(s) and address:

Delete entry and replace with “Commander, Navy Personnel Command (PERS-31), 5720 Integrity Drive, Millington, TN 38055-3120.”

Notification procedure:

Delete first paragraph and replace with “Active duty enlisted personnel seeking to determine whether this system of records contains information about themselves should address written inquiries to the Commander, Navy Personnel Command (PERS-31), 5720 Integrity Drive, Millington, TN 38055-3120.”

Record access procedures:

Delete first paragraph and replace with “Active duty enlisted personnel seeking access to records about themselves contained in this system of records should address written inquiries to the Commander, Navy Personnel Command (PERS-34, 5720 Integrity Drive, Millington, TN 38055-3120.”

Delete second paragraph and replace with “Inactive duty and reserve personnel seeking access to records about themselves contained in this system of records shall address written inquiries to the Commanding Officer, Naval Reserve Personnel Center (ATTN: Privacy Act Coordinator), New Orleans, LA 70149-7800.”

* * * * *

N01080-1

System name:

Enlisted Master File Automated Systems.

System location:

Defense Enterprise Computing Center (DECC), 5450 Carlisle Pike, Mechanicsburg, PA 17050-0975.

Categories of individuals covered by the system:

All Navy enlisted personnel: active and inactive.

Categories of records in the system:

System contains information related to enlisted assignment, planning, programming, accounting, promotions, career development, procurement, education, training, retirement, performance, security, personal data, qualifications, programming, and enlisted reserve drill data. The system also contains Activity Personnel Diaries, personnel accounting documents, Reserve Unit Drill reports, and other personnel transaction documents necessary to maintain file accuracy and currency; and, all computer extracts, microform, and printed reports.

Authority for maintenance of the system:

10 U.S.C. 5013, Secretary of the Navy, and E.O. 9397 (SSN).

Purpose(s):

To assist in the administration, management, and supervision of Navy enlisted personnel and the operation of personnel affairs and functions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of system of record notices apply to this system.

Policies and practices for storing, retrieving, accessing, retaining, and disposing of records in the system:

Storage:

Automated records are stored on magnetic tapes, disks, and drums. Printed reports and other related documents supporting the system are stored in authorized areas only.

Retrievability:

Name and Social Security Number.

Safeguards:

Within the computer center, controls have been established to disseminate computer output over the counter only to authorized users. Specific procedures are also in force for the disposal of computer output. Output material in the sensitive category, i.e., inadvertent or unauthorized disclosure that may result in harm, embarrassment, inconvenience or unfairness to the individual, will be shredded. Computer files are kept in a secure, continuously manned area and are accessible only to authorized computer operators, programmers, enlisted management, placement, and distributing personnel who are directed to respond to valid official requests for data. These accesses are controlled and monitored by the security system.

Retention and disposal:

Permanent. Annually transferred to the National Archives under Group 24, Records of the Bureau of Naval Personnel.

System manager(s) and address:

Commander, Navy Personnel Command (PERS-31), 5720 Integrity Drive, Millington, TN 38055-3120.

Notification procedure:

Active duty enlisted personnel seeking to determine whether this system of records contains information about themselves should address written inquiries to the Commander, Navy Personnel Command (PERS-31), 5720 Integrity Drive, Millington, TN 38055-3120.

Inactive duty and reserve personnel seeking to determine whether this system of records contains information about themselves shall address written inquiries to the Commanding Officer, Naval Reserve Personnel Center (ATTN:

Privacy Act Coordinator), New Orleans, LA 70149-7800.

Written request should contain full name, Social Security Number, rank, status, and signature of requester.

Record access procedures:

Active duty enlisted personnel seeking access to records about themselves contained in this system of records should address written inquiries to the Commander, Navy Personnel Command (PERS-34), 5720 Integrity Drive, Millington, TN 38055-3120.

Inactive duty and reserve personnel seeking access to records about themselves contained in this system of records shall address written inquiries to the Commanding Officer, Naval Reserve Personnel Center (ATTN: Privacy Act Coordinator), New Orleans, LA 70149-7800.

Written request should contain full name, Social Security Number, rank, status, and signature of requester.

Contesting record procedures:

The Navy's rules for accessing records, and for contesting contents and appealing initial agency determinations are published in Secretary of the Navy Instruction 5211.5; 32 CFR part 701; or may be obtained from the system manager.

Record source categories:

Official records, correspondence, and educational institutions.

Exemptions claimed for the system:

None.

[FR Doc. 06-7895 Filed 9-20-06; 8:45 am]

BILLING CODE 5001-06-P